DEPARTMENT OF COMMERCE

International Trade Administration

[A-533-869]

Certain New Pneumatic Off-the-Road Tires From India: Notice of Rescission of Antidumping Duty Administrative Review; 2017-2018

AGENCY: Enforcement and Compliance, International Trade Administration, Department of Commerce.

SUMMARY: The Department of Commerce (Commerce) is rescinding the administrative review of the antidumping duty (AD) order on certain new pneumatic off-the-road tires (OTR Tires) from India for the period of review (POR) February 2, 2017, through February 28, 2018.

DATES: Applicable July 27, 2018.

FOR FURTHER INFORMATION CONTACT: Trisha Tran, AD/CVD Operations, Office IV, Enforcement and Compliance, International Trade Administration, U.S. Department of Commerce, 1401 Constitution Avenue NW, Washington, DC 20230; telephone: (202) 482-4852.

SUPPLEMENTARY INFORMATION:

Background

On March 5, 2018, Commerce published in the Federal Register a notice of opportunity to request an administrative review of the AD order on OTR Tires from India for the period February 2, 2017, through February 28, 2018.¹ On March 30, 2018, ATC Tires Private Limited (ATC) and Alliance Tires Americas, Inc. (ATA) (collectively ATC) timely requested that Commerce conduct an administrative review of this AD order with respect to ATC.² No other party requested a review of the order. On May 2, 2018, Commerce initiated an administrative review with respect to ATC, in accordance with section 751(a) of the Tariff Act of 1930, as amended (the Act) and 19 CFR 351.221(c)(1)(i).³ On May 17, 2018, ATC timely withdrew its request for an administrative review.⁴ No other party requested a review of ATC.

¹ See Antidumping or Countervailing Duty, Order, Finding, or Suspended Investigation; Opportunity to Request Administrative Review, 83 FR 9284 (March 5, 2018).

² See Letter from ATC, “Certain New Pneumatic Off-the-Road Tires from India: ATC Tires Private Limited's Request for Administrative Review,” dated March 30, 2018.

³ See Initiation of Antidumping and Countervailing Duty Administrative Reviews, 83 FR 19215 (May 2, 2018).

⁴ See Letter from ATC, “Certain New Pneumatic Off-the-Road Tires from India: ATC Tires Private Limited's Withdrawal of Request for Administrative Review,” dated May 17, 2018.

Rescission of Review

Pursuant to 19 CFR 351.213(d)(1), Commerce will rescind an administrative review, in whole or in part, if the party that requested a review withdraws the request within 90 days of the publication date of the notice of initiation of the requested review. In this case, ATC timely withdrew its request for review within 90 days of the publication date of the Initiation Notice. Because Commerce received no other request for a review of the AD order with respect to ATC, and no other requests were made for a review of the AD order with respect to other companies, we are rescinding this administrative review covering the period February 2, 2017, through February 28, 2018, in its entirety, in accordance with 19 CFR 213(d)(1).

Assessment

Commerce will instruct U.S. Customs and Border Protection (CBP) to assess antidumping duties on all appropriate entries of OTR Tires from India during the POR. Antidumping duties shall be assessed at rates equal to the cash deposit of estimated antidumping duties required at the time of entry, or withdrawal from warehouse, for consumption in accordance with 19 CFR 351.212(c)(1)(i). Commerce intends to issue appropriate assessment instructions to CBP 15 days after the publication of this notice in the Federal Register.

Notification to Importers

This notice also serves as a final reminder to importers for whom this review is being rescinded of their responsibility under 19 CFR 351.402(f)(2) to file a certificate regarding the reimbursement of antidumping duties prior to liquidation of the relevant entries during this review period. Failure to comply with this requirement could result in the presumption that reimbursement of the antidumping duties occurred and the subsequent assessment of double antidumping duties.

Notification Regarding Administrative Protective Orders

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Act, and 19 CFR 351.213(d)(4).

Dated: July 23, 2018.
James Maeder,
Associate Deputy Assistant Secretary for Antidumping and Countervailing Duty Operations performing the duties of Deputy Assistant Secretary for Antidumping and Countervailing Duty Operations.

[FR Doc. 2018-16074 Filed 7-26-18; 8:45 am]

BILLING CODE 3510-DS-P